DEPARTMENT OF STATE

[Public Notice 5731]

Paul Simon Water for the Poor Act 2005: Comment Submission on 2006 Report

The U.S. Department of State's Bureau of Oceans and International Environmental and Scientific Affairs is inviting interested groups and individuals to submit comments on the 2006 Report to Congress mandated by the “Paul Simon Water for the Poor Act of 2005”. (The Report can be viewed or downloaded at http://www.state.gov/g/oes/water.) These comments, as part of the State Department's continuing outreach to the greater community of water stakeholders, will be incorporated into our evaluation of last year's report and will help build the base of our thinking on the 2007 report.

The Paul Simon Water for the Poor Act of 2005 (HR 1973/PL-109-121) requires the Department of State with the U.S. Agency for International Development to develop and implement a strategy to further U.S. foreign assistance objectives to provide affordable and equitable access to safe water and sanitation in developing countries. The Act directs that the strategy be developed in consultation with “other appropriate Federal departments and agencies, international organizations, international financial institutions, recipient governments, United States and international nongovernmental organizations, indigenous civil society and other appropriate entities.”

Interested parties are invited to submit their written comments to Mr. Douglas McPherson, U.S. Department of State, OES/PCI Room 2726, 2201 C Street, NW., Washington, DC 20520 or by e-mail to WPAct2005@state.gov no later than April 23, 2007. Submissions should be limited to 1500 words.

In addition to these comments, the Department of State, working with interested stakeholders, plans to have an event with experts to discuss key elements of the strategy.

For further information, please contact Douglas McPherson at: 1-866-501-7952 or by e-mail at WPAct2005@state.gov.

Dated: March 21, 2007.
Claudia A. McMurray,
Assistant Secretary, Bureau of Oceans and International Environmental and Scientific Affairs, Department of State.

[FR Doc. E7-5687 Filed 3-27-07; 8:45 am]

BILLING CODE 4710-09-P